DEPARTMENT OF ENERGY

Federal Energy Regulatory Commission

[Docket No. CP08-36-000]

Chestnut Ridge Storage L.P.; Notice of Public Scoping Meeting and Site Visit for the Proposed Junction Natural Gas Storage Project

March 10, 2008.

The staff of the Federal Energy Regulatory Commission (Commission) will conduct a public scoping meeting and site visit for the Junction Natural Gas Storage Project involving construction and operation of natural gas storage and pipeline header facilities by Chestnut Ridge Storage L.P. in Fayette County, Pennsylvania and Preston and Monongalia Counties, West Virginia. Further description of the project was provided in our Notice of Intent to Prepare an Environmental Assessment for the Junction Natural Gas Storage Project, issued on January 28, 2008.

Additional information about the project, including maps, is available from the Commission's Office of External Affairs, at 1-866-208-FERC or on the FERC Internet Web site (http://www.ferc.gov) using the “eLibrary” link. Click on the eLibrary link, then on “General Search” and enter the docket number—CP08-36. Be sure you have selected an appropriate date range. For assistance, please contact FERC Online Support at FercOnlineSupport@ferc.gov or toll free at 1-866-208-3676, or for TTY, contact (202) 502-8659.

We invite you to attend a public scoping meeting on Thursday evening, March 27, 2008, to provide environmental comments on the proposed project. Your input will help us determine the issues that need to be evaluated in the environmental assessment. The public scoping meeting will be held at: Volunteer Fire Department Social Hall, 31 Pittsburgh Street, Fairchance, PA 15436, Phone: 724-564-9103, Time: 7 p.m.-9 p.m.

The Commission staff also will conduct a site visit of the location of the proposed facilities on Friday, March 28, 2008. Anyone interested in participating in the site visit may attend, and they must provide their own transportation. The staff will start the site visit on March 28 at approximately 9 a.m. The Commission staff, company representatives, and interested participants will meet in the parking lot at the following location: Saints Cyril & Methodius Church, 50 N Morgantown Street, Fairchance, PA 15436, time: 9 a.m. (EST).

Kimberly D. Bose,
Secretary.

[FR Doc. E8-5232 Filed 3-14-08; 8:45 am]

BILLING CODE 6717-01-P